DEPARTMENT OF LABOR

Mine Safety and Health Administration

Proposed Information Collection Request Submitted for Public Comment and Recommendations; Generic Solicitation for Training Grant Applications

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506 (c)(2)(A)]. This program helps to ensure that requested data can be provided in the desired format, reporting burden (time and financial resources) is minimized, collection instruments are clearly understood, and the impact of collection requirements on respondents can be properly assessed.

Currently, the Mine Safety and Health Administration (“MSHA” or the “Agency”) is soliciting comments concerning the request for a new information collection related to the establish of a program to award competitive grants for education and training, to be know as the Brookwood-Sago Mine Safety Grants.

DATES: Submit comments on or before November 13, 2006.

ADDRESSES: Send comments to U.S. Department of Labor, Mine Safety and Health Administration, John Rowlett, Director, Management Services Division, 1100 Wilson Boulevard, Room 2134, Arlington, VA 22209-3939. Commenters are encouraged to send their comments on a computer disk, or via Internet E-mail to Rowlett.John@dol.gov, along with an original printed copy. Mr. Rowlett can be reached at (202) 693-9827 (voice), or (202) 693-9801 (facsimile).

FOR FURTHER INFORMATION CONTACT: Contact the employee listed in the ADDRESSES section of this notice.

SUPPLEMENTARY INFORMATION:

I. Background

Section 14(a) of United States Public Law PL 109-236, the Mine Improvement and New Emergency Response Act of 2006 (Miner Act) Brookwood-Sago Mine Safety Grants authorizes the Secretary of Labor to establish a program to award competitive grants for education and training, to be known as Brookwood-Sago Mine Safety Grants. To carry out the purposes of this section, The Mine Safety and Health Administration will conduct directly, or through competitive grants, education and training. These courses must ensure an adequate number of qualified personnel to fulfill the purposes of the Act, provide employers and miners with short-term training, inform them of the importance and proper use of safety and health equipment, and train employers and employees to recognize, avoid, and prevent unsafe and unhealthful working conditions in and around mines.

After awarding a training grant, MSHA will use the work plan and budget information provided in the application to monitor the organization's progress in meeting training goals and objectives, as well as planned renewals at one-year intervals. An organization must submit separate applications for the initial award and for each renewal award.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the FOR FURTHER INFORMATION CONTACT section of this notice, or viewed on the Internet by accessing the MSHA home page (http://www.msha.gov) and then choosing “Statutory and Regulatory Information” and “Federal Register Documents.”

III. Current Actions

The Agency awards grants to public or private not-for-profit entities to provide part of the required training. To obtain such as grant, an organization must complete the training grant application. MSHA uses the information in this application to evaluate the organization's competence to provide the proposed training (including the qualifications of the personnel who manage and implement the training); the goals and objectives of the proposed training program; a workplan that describes in detail the tasks that the organization will implement to meet these goals and objectives; the appropriateness of the proposed costs; and compliance with Federal regulations governing nonprocurement debarment and suspension, maintaining a drug-free workplace, and lobbying activities. Also required is a program summary that Agency officials use to review and evaluate the highlights of the overall proposal.

Type of Review: New Collection.

Agency: Mine Safety and Health Administration.

Title: Generic Training Grant Applications.

OMB Number: 1219-NEW.

Frequency: Annually.

Affected Public: Public or Private Not-for-profit Entities.

Respondents: 100.

Average Time Per Respondent: 25 hour.

Total Burden Hours: 2,500 hours.

Total Burden Cost (capital/startup): $0.

Total Burden Cost (operating/maintaining): $0.

Comments submitted in response to this notice will be summarized and/or included in the request for Office of Management and Budget approval of the information collection request; they will also become a matter of public record.

Dated at Arlington, Virginia, this 31st day of August, 2006.
David Meyer,
Director, Office of Administration and Management.

[FR Doc. E6-14910 Filed 9-8-06; 8:45 am]

BILLING CODE 4510-43-P